DEPARTMENT OF HEALTH AND HUMAN SERVICES

Centers for Disease Control and Prevention

[60Day-22-0004; Docket No. CDC-2022-0108]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled National Disease Surveillance Program—II. Disease Summaries information collection. This collection is used to determine the prevalence of disease and for planning and evaluating programs for prevention and control of infectious diseases.

DATES: CDC must receive written comments on or before November 15, 2022.

ADDRESSES: You may submit comments, identified by Docket No. CDC-2022-0108 by either of the following methods:

• Federal eRulemaking Portal: www.regulations.gov Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7118; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

National Disease Surveillance Program II—Disease Summaries (OMB Control No. 0920-0004, Exp. 10/31/2020)—Reinstatement with Change—National Center for Immunization and Respiratory Diseases (NCIRD), Centers for Disease Control and Prevention (CDC).

Background and Brief Description

CDC requests a three-year approval for the Reinstatement with Change of the National Disease Surveillance Program II—Disease Summaries information collection. As with the previous approval, these data are essential for measuring trends in diseases, evaluating the effectiveness of current preventive strategies, and determining the need to modify current preventive measures.

Influenza Virus, Caliciviruses, Respiratory and Enteric Viruses are associated with diseases in this surveillance program. Proposed changes in this Reinstatements with Change include the following: nine influenza forms, Suspect Respiratory Virus Patient Form, Middle East Respiratory Syndrome Coronavirus (MERS) Patient Under Investigation (PUI) Form, Viral Gastroenteritis Outbreak Submission Form, National Respiratory and Enteric Virus Surveillance System (NREVSS) Laboratory Assessment, and National Enterovirus Surveillance Report. These forms will have minor edits with no burden change from last OMB approval.

In addition to these changes, three new forms have been added including an aggregate case count of persons exposed to Highly Pathogenic Avian Influenza (HPAI) spreadsheet, Pediatric Hepatitis of Unknown Etiology Medical Record Abstraction Form (CRF) and Pediatric Hepatitis of Unknown Etiology Medical Record Abstraction short form version. The data from the new forms will enable rapid detection and characterization of outbreaks of known pathogens, as well as potential newly emerging viral pathogens. The NORS Foodborne Disease Transmission, and Waterborne Diseases Transmission are discontinued in this package, as they have been moved to the OMB-approved package for National Outbreak Reporting System (NORS) (OMB Control No. 0920-1304).

The frequency of response for each form will depend on the disease and surveillance need. CDC requests OMB approval for an estimated 24,320 annual burden hours. There is no additional cost to respondents other than the time to participate.

Estimated Annualized Burden Hours
Type of respondent | Form name | Number of respondents | Number of responses per respondent | Average burden per response (in hr) | Total burden (in hr)
Epidemiologist | WHO COLLABORATING CENTER FOR INFLUENZA Influenza Virus Surveillance | 53 | 52 | 10/60 | 459
Epidemiologist | U.S. WHO Collaborating Laboratories Influenza Testing Methods Assessment | 113 | 1 | 10/60 | 19
Epidemiologist | U.S. Outpatient Influenza-like Illness Surveillance Network (ILINet) Weekly—CDC 55.20 | 1800 | 52 | 10/60 | 15,600
Epidemiologist | US Outpatient Influenza-like Illness Surveillance Network (ILINet) Workfolder 55.20E | 1800 | 1 | 15/60 | 150
Epidemiologist | Influenza-Associated Pediatric Mortality—Case Report Form | 57 | 2 | 30/60 | 57
Epidemiologist | Human Infection with Novel Influenza A Virus Case Report Form | 57 | 2 | 30/60 | 57
Epidemiologist | Human Infection with Novel Influenza A Virus Severe Outcomes | 57 | 1 | 90/60 | 86
Epidemiologist | Novel Influenza A Virus Case Screening Form | 57 | 1 | 15/60 | 14
Epidemiologist | Antiviral Resistant Influenza Infection Case Report Form | 57 | 3 | 30/60 | 86
Epidemiologist | National Respiratory & Enteric Virus Surveillance System (NREVSS) (55.83A, B, D) (electronic) | 550 | 52 | 15/60 | 7150
Epidemiologist | National Enterovirus Surveillance Report: (CDC 55.9) (electronic) | 20 | 12 | 15/60 | 60
Epidemiologist | National Adenovirus Type Reporting System (NATRS) | 13 | 4 | 15/60 | 13
Epidemiologist | Middle East Respiratory Syndrome (MERS) Patient Under Investigation (PUI) Short Form | 57 | 3 | 25/60 | 71
Epidemiologist | Viral Gastroenteritis Outbreak Submission Form | 20 | 5 | 5/60 | 8
Epidemiologist | Influenza Virus (Electronic, Year Round), PHLIP_HL7 messaging Data Elements | 57 | 52 | 5/60 | 247
Epidemiologist | Influenza virus (electronic, year round) (PHIN-MS) | 3 | 52 | 5/60 | 13
Epidemiologist | Suspect Respiratory Virus Patient Form | 10 | 5 | 30/60 | 25
Epidemiologist | Aggregate case counts of persons exposed to Highly Pathogenic Avian Influenza (HPAI) | 50 | 9 | 10/60 | 75
Epidemiologist | Pediatric Hepatitis of Unknown Etiology Medical Record Abstraction Short Form | 52 | 4 | 15/60 | 52
Epidemiologist | Pediatric Hepatitis of Unknown Etiology Medical Record Abstraction Form (CRF) | 52 | 2 | 45/60 | 78
Total |  |  |  |  | 24,320

Jeffrey M. Zirger,
Lead, Information Collection Review Office, Office of Scientific Integrity, Office of Science, Centers for Disease Control and Prevention.

[FR Doc. 2022-20127 Filed 9-15-22; 8:45 am]

BILLING CODE 4163-18-P